POSTAL SERVICE

39 CFR Part 111

Every Door Direct Mail-Retail

AGENCY: Postal Service™.

ACTION: Final rule.

SUMMARY: This final rule establishes the retail option of Every Door Direct Mail-Retail® (EDDM-Retail) as a formal product offering within Mailing Services, and ends the market test period for this initiative.

DATES: Effective January 27, 2013.

FOR FURTHER INFORMATION CONTACT: Bill Chatfield at 202-268-7278 or Dave Mastervich at 202-268-7419.

SUPPLEMENTARY INFORMATION: The Postal Service's final rule includes the announcement to make EDDM-Retail a permanent product, and contains the revisions to Mailing Standards of the United States Postal Service, Domestic Mail Manual (DMM®) that we adopt to implement the changes. The price for Standard Mail® saturation flats with simplified addresses (EDDM flats) entered at a BMEU will be different than the price for EDDM-Retail flats effective with the January 2013 price change.

EDDM-Retail a Permanent Product

In December 2010, the Postal Service announced a new market test to begin in January 2011, to enable customers to mail saturation flats with simplified addresses to all types of delivery in an even more simplified manner. The USPS™ developed a Web Tool to assist customers in determining which routes cover certain delivery areas and the number of residential, business, and total deliveries for each delivery route or Post Office Box™ section. The USPS also waived permit imprint application fees and annual presort mailing fees for mailers paying postage at the time of mailing while entering mail (up to 5000 pieces per day) at the office of delivery. In addition, mailers do not maintain a trust account for postage payment, instead paying at the time of mailing and using a simplified postage statement.

This market test has been very successful in making it easier for new customers to mail and increase their marketing efforts. On July 10, 2012, the Postal Service filed a request with the Postal Regulatory Commission (PRC) pursuant to 39 U.S.C. 3642 and 39 CFR 3020.30, et seq., to modify the Mail Classification Schedule (MCS) by adding Every Door Direct Mail-Retail (EDDM-Retail) to the market-dominant product list. We have subsequently received approval from the PRC and will convert this product to a permanent product offering.

Our current standards for use of simplified addresses on Standard Mail and on other classes of mail entered through Business Mail Entry Units are not changing. We are adding an alternative marketing name of Every Door Direct Mail for commercial mailings of Standard Mail flats with simplified addresses.

The Postal Service adopts the following changes to Mailing Standards of the United States Postal Service, Domestic Mail Manual (DMM), which is incorporated by reference in the Code of Federal Regulations. See 39 CFR 111.1.

List of Subjects in 39 CFR Part 111

Administrative practice and procedure, Postal Service.

Accordingly, 39 CFR Part 111 is amended as follows:

PART 111—[AMENDED.]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

Mailing Standards of the United States Postal Service, Domestic Mail Manual (DMM):

* * * * *

100 Retail Letters, Cards, Flats, and Parcels

101 Physical Standards

* * * * *

2.0 Physical Standards for Flats

2.1 General Definition of Flat-Size Mail

Flat-size mail is:

[Revise item 2.1a as follows:]

a. More than 11½ inches long, or more than 6⅛ inches high, or more than ¼ inch thick, except as allowed for EDDM-Retail flats under 140. For general retail mailability, all pieces ¼ inch thick or less must be a minimum of 5 inches long and 3½ inches high and 0.007 inch thick.

* * * * *

[Add new section 140 as follows:]

140 Standard Mail Flats—Every Door Direct Mail-Retail (EDDM-Retail)

143 Prices and Eligibility

1.0 Description, Price, and Fees

1.1 General Description of EDDM-Retail Service

Standard Mail flats with simplified addresses (under 602.3.0) may be mailed under conditions in 140 as EDDM-Retail flats or as commercial mail under 340 and 602.3.0.

1.2 EDDM-Retail Flats Characteristics

EDDM-Retail flats must weigh a maximum of 3.3 ounces and must have a length greater than 10½ inches long, a height greater than 6⅛ inches high, or a thickness greater than ¼ inch thick. See 101.2.1 for general minimum dimensions. EDDM-Retail flats have the following maximum dimensions:

a. The length (the longest dimension) must be a maximum of 15 inches.

b. The height must be a maximum of 12 inches.

c. The thickness must be a maximum of 0.75 inch.

1.3 Price

For price, see Notice 123—Price List. Flats mailed under EDDM-Retail are not eligible for Nonprofit prices.

1.4 Fees and Services

There are no annual presort or mailing fees to mail pieces as EDDM-Retail. Ancillary service endorsements are not allowed on pieces mailed as EDDM-Retail flats.

2.0 Content Standards for EDDM-Retail Flats

2.1 Definition and Weight

EDDM-Retail flats are Standard Mail, and are generally subject to Standard Mail eligibility standards, with differences as described in 2.0 due to the use of simplified addresses. EDDM-Retail mailpieces consist of mailable matter that is neither mailed nor required to be mailed as First-Class Mail and that is not authorized to be mailed as Periodicals. All EDDM-Retail flats in a mailing must be of identical content, size, and weight and cannot weigh more than 3.3 ounces. Each piece must meet the physical standards for a flat under 101.2.0. See 101.2.1 for dimensions.

2.2 Personal Information

Personal information may not be included in an EDDM-Retail mailpiece.

2.3 Bills and Statements of Account

Mail containing bills or statements of account as defined in 333.2.2 may not be entered as EDDM-Retail mail.

2.4 Handwritten and Typewritten Matter

Mail containing handwritten or typewritten matter may not be entered as EDDM-Retail mail.

2.5 Attachments and Enclosures

EDDM-Retail mailpieces may not have First-Class Mail enclosures or attachments. An EDDM-Retail flat may bear a label, a sticker, or a release card eligible as Standard Mail matter, when affixed under 2.5 and 301.1.8.4. EDDM- Retail flats may bear repositionable notes under 705.23.0. EDDM-Retail flats also may bear other attachments eligible as Standard Mail matter if these additional conditions are met:

a. The host piece must be at least .009 inch thick.

b. The attachment is securely attached, not larger than the host piece, and does not extend beyond the host piece.

c. Each piece in the mailing bears the attachment, and the attachment is of identical size, weight, and positioning on the host piece.

d. The attachment does not interfere with processing or delivery. Folded or multipage attachments must be secured and sealed to prevent opening during handling.

2.6 Inspection of Contents

EDDM-Retail flats are not sealed against postal inspection.

3.0 Basic Standards for EDDM-Retail Flats

3.1 Basic Standards

EDDM-Retail flats must be part of a saturation flats mailing with all pieces bearing simplified addresses meeting the saturation and addressing standards in 602.3.0. Each mailing must consist of 200 or more pieces or 50 or more pounds of mail up to a maximum of 5000 pieces per day per 5-digit ZIP Code. As an exception to this minimum quantity, a mailing to all addresses in a 5-digit ZIP Code area may contain fewer than 200 pieces when there are fewer than 200 deliverable addresses in the entire ZIP Code service area to which the pieces are mailed. All pieces in a mailing must be entered at the designated Post Office servicing the routes and Post Office Box sections to which delivery is intended.

3.2 Forwarding and Return Service

No forwarding or return service is available for pieces mailed as EDDM-Retail.

3.3 Extra Services

No extra services are available with EDDM-Retail mailpieces.

3.4 Additional Standards for EDDM-Retail Flats

Each EDDM-Retail mailing is subject to postage payment standards in 144, preparation standards in 145, and deposit and entry standards in 146.

EDDM-Retail flats are not subject to the ZIP Code accuracy or Move Update standards. Additional basic standards for Standard Mail flats in 343.3.0 apply to EDDM-Retail flats, unless stated otherwise in 140.

144 Postage Payment and Documentation

1.0 Basic Standards for Postage Payment

1.1 Postage Payment Options

The mailer is responsible for proper postage payment. Postage for EDDM-Retail flats must be paid with a postage evidencing system indicia (604.4.0) of the correct amount of postage affixed to each piece or at the time of mailing by cash, check, debit card, or credit card.

1.2 Customer Registration

Mailers must obtain a Customer Registration ID (CRID), available online at https://gateway.usps.com/bcg/login.htm.

1.3 Postage Indicia

A postage indicia must be on each piece mailed as EDDM-Retail, printed above and to the right of the simplified address. See Exhibit 1.3 for the required wording of the indicia.

2.0 Mailing Documentation

2.1 Completing Postage Statements

Each mailing of EDDM-Retail flats must be accompanied by a postage statement (PS Form 3587) completed and signed by the mailer.

2.2 Basic Documentation Standards

Documentation for mailings of EDDM-Retail flats includes the postage statement (see 2.1), a sample mailpiece, and (if applicable) a list of “do not deliver” addresses.

145 Mail Preparation

1.0 Preparation of EDDM-Retail Flats

1.1 General Information

All pieces mailed as EDDM-Retail mailings must be bundled under 1.3 and presented directly to the correct delivery Post Office or destination delivery unit (DDU), or mailed to the DDU via Priority Mail under 146.

1.2 Quantity per Mailing

EDDM-Retail flats must be part of one mailing of at least 200 pieces (or 50 pounds) of mail except under 143.3.1, but no more than 5000 pieces per mailing per day at any one Post Office. If a Post Office serves multiple ZIP Codes, the maximum number of EDDM-Retail pieces per day is 5000 per 5-digit ZIP Code.

1.3 Delivery Statistics, Sortation, and Bundling

EDDM-Retail flats must be separated by delivery route (or Post Office Box section) under 145, using delivery statistics obtained from the EDDM web tool at the Web site eddm.usps.com/eddm. EDDM-Retail flats must be in bundles of 50-100. Place a facing slip on the top of each bundle, under the straps, with the number of pieces in the bundle written on the facing slip. See 602.2.0 and 602.3.2 for more information.

146 Enter and Deposit

1.0 Basic Options

1.1 Entry at Delivery Post Office

All EDDM-Retail mailings must be entered directly at the Post Office (or DDU) responsible for the Post Office Box or carrier route delivery for which the mailing is prepared, or shipped to that Post Office under 1.2.

1.2 Alternate Entry by Priority Mail

1.2.1 Preparation

Place prepared EDDM-Retail mail, in bundles with facing slips, in Priority Mail boxes, including Priority Mail Flat Rate boxes.

1.2.2 Documentation

Box #1 (see 1.2.3) for the EDDM-Retail mailing must contain an envelope with the following:

a. Sample mailpiece.

b. Check or money order made out to “Postmaster” or “Postal Service” for the amount of postage for the EDDM-Retail pieces (not for the Priority Mail shipment). Include your telephone number on the front of the check.

c. Completed EDDM-Retail postage statement (PS Form 3587).

d. The Postmaster Instruction letter; see https://www.usps.com/business/pdf/eddm-postmaster-letter.pdf for a copy.

1.2.3 Labeling the Boxes

On each box, write “Every Door Direct Mail—Retail” and “Open Immediately.” For multiple boxes, number the boxes, starting with 1 of X, (with “X” being the total number of boxes in the shipment). Include the payment and documentation in box #1.

1.2.4 Shipping

Address the boxes to “Postmaster” at the Post Office that will deliver the mailpieces. To ship them, either bring the boxes to your local Post Office or use Click-N-Ship. Each box must have a Delivery Confirmation label affixed by the mailer.

* * * * *

300 Commercial Mail Flats

* * * * *

301 Physical Standards

* * * * *

2.0 Physical Standards for Nonautomation Flats

* * * * *

2.2 Standard Mail

* * * * *

[Revise the title and introductory text of 2.2.2 as follows:]

2.2.2 Dimensions for Standard Mail and EDDM-Retail Flats with Simplified Addresses

Standard Mail flats with simplified addresses for which saturation flats prices are paid and EDDM-Retail flats (see 140) must have at least one dimension that is greater than a letter-size maximum dimension as noted in 1.1a. The minimum thickness must be at least 0.007 inch up to a maximum of 0.75 inch. As an exception to the minimum length, flats with simplified addresses may have a length shorter than a letter-size maximum length, under all of the following conditions: * * *

* * * * *

302 Elements on the Face of a Mailpiece

* * * * *

3.0 Placement and Content of Mail Markings

* * * * *

3.2 First-Class Mail and Standard Mail Markings

3.2.1 Placement

Mailpieces must be marked under the corresponding standards to show the class of service and/or price paid:

a. Basic Marking. The basic required marking that indicates the class or subclass which must be printed or produced as part of, directly below, or to the left of the permit imprint, meter imprint, or stamp as follows:

[Revise items 1 through 4 as follows:]

1. “First-Class Mail”

2. “Standard,” “STD,” “Presorted Standard,” or “PRSRT STD”

3. “Nonprofit Organization,” “Nonprofit Org.,” or “Nonprofit”

4. For Standard Mail flats mailed at saturation flats prices under EDDM- Retail standards in 140 and 602.3.0, add “EDDM-Retail” as the last line in the permit imprint indicia. See Exhibit 144.1.3 for an example.

* * * * *

602 Addressing

* * * * *

3.0 Use of Alternative Addressing

* * * * *

3.2 Simplified Address

3.2.1 Conditions for General Use

The following conditions must be met when using a simplified address on commercial mailpieces:

* * * * *

[Revise item 3.2.1c as follows:]

c. Standard Mail flats with simplified addresses (also known as “Every Door Direct Mail” or “EDDM”) must have one dimension larger than a letter-size maximum dimension, except under 301.2.2.2. Standard Mail pieces, when mailed under conditions in 301.2.2.2 and delivered by city route delivery or Post Office Box delivery in offices with city route delivery, are considered to be flats and are charged postage for Standard Mail saturation flats. Letter-size pieces that meet the size standards in 301.2.2.2 and that are delivered by rural or HCR routes may be mailed (when entered at a BMEU) as letters or flats with simplified addresses, at the mailer's option. See 140 for more information about entering EDDM pieces (EDDM-Retail) at Retail locations.

* * * * *

3.2.4 Postage

[Add a new last sentence in 3.2.4 as follows:]

* * * Postage for pieces mailed as EDDM-Retail flats must be as described in 144.

* * * * *

We will publish an appropriate amendment to 39 CFR part 111 to reflect these changes.

Stanley F. Mires,
Attorney, Legal Policy & Legislative Advice.

[FR Doc. 2012-25059 Filed 10-12-12; 8:45 am]

BILLING CODE 7710-12-P